DEPARTMENT OF AGRICULTURE

Forest Service

Information Collection; Land Between The Lakes (LBL) Communication Effectiveness Study

AGENCY: Forest Service, USDA.

ACTION: Notice; request for comment.

SUMMARY: In accordance with the Paperwork Reduction Act of 1995, the Forest Service is seeking comments from all interested individuals and organizations on the new information collection, Land Between The Lakes (LBL) Communication Effectiveness Study.

DATES: Comments must be received in writing on or before December 20, 2010 to be assured of consideration. Comments received after that date will be considered to the extent practicable.

ADDRESSES: Comments concerning this notice should be addressed to Greg Barnes, USDA Forest Service, Land Between The Lakes, 100 Van Morgan Drive, Golden Pond, KY 42211. Comments also may be submitted via e-mail to: gmbarnes@fs.fed.us.

The public may inspect comments received at Land Between The Lakes Administrative Office, 100 Van Morgan Drive, Golden Pond, KY 42211 during normal business hours. Visitors are encouraged to call ahead to 270-924-2000 to facilitate entry to the building.

FOR FURTHER INFORMATION CONTACT: Greg Barnes, Land Between The Lakes, 270-924-2089. Individuals who use telecommunication devices for the deaf (TDD) may call the Federal Relay Service (FRS) at 1-800-877-8339 between 8 a.m. and 8 p.m., Eastern Standard Time, Monday through Friday.

SUPPLEMENTARY INFORMATION: Title: Land Between The Lakes (LBL) Communication Effectiveness Study.

OMB Number: 0596—NEW.

Type of Request: NEW.

Abstract: Land Between The Lakes (hereafter referred to as LBL) is a public-use facility operated by the USDA Forest Service. Current and potential users of LBL receive information about the facility through sources such as co-op advertising and tourism promotions, as well as LBL's own Web site. The Forest Service is proposing a study designed to assess the impact of communication avenues such as promotions and other information sources on current and potential visitors to the LBL. The study will be conducted and led by LBL's own Social Science and Market Research Specialists.

The goals of the collection are to determine if LBL's communication efforts are in line with its mission and to assess how LBL is affecting the regional tourism industry. To accomplish these goals, LBL will utilize a voluntary survey provided to individuals who have previously requested information from LBL. Participants will have the option of completing the survey either in paper form to be mailed or completing an online version of the survey. The surveys received from the collection will assist in measuring the effectiveness of LBL's communication effort; in developing a positioning strategy for LBL in the recreation market; and to measure the public's opinions of LBL's promotional materials.

Estimate of Annual Burden: 10 minutes.

Type of Respondents: Individuals.

Estimated Annual Number of Respondents: 500.

Estimated Annual Number of Responses per Respondent: 1.

Estimated Total Annual Burden on Respondents: 83.3 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: October 12, 2010.
James M. Pena,
Associate Deputy Chief.

[FR Doc. 2010-26341 Filed 10-19-10; 8:45 am]

BILLING CODE 3410-11-P